DEPARTMENT OF THE INTERIOR

National Park Service

Notice of Intent to Repatriate Cultural Items: University of Nevada, Las Vegas, Marjorie Barrick Museum of Natural History, Las Vegas, NV

AGENCY: National Park Service, Interior.

ACTION: Notice.

Notice is here given in accordance with the Native American Graves Protection and Repatriation Act (NAGPRA), 25 U.S.C. 3005, Sec. 7, of the intent to repatriate cultural items in the possession of the University of Nevada, Las Vegas, Marjorie Barrick Museum of Natural History that meet the definition of “sacred objects” under 25 U.S.C. 3001.

This notice is published as part of the National Park Service’s administrative responsibilities under NAGPRA, 25 U.S.C. 3003, Sec. 5 (d)(3). The determinations within this notice are the sole responsibility of the museum, institution, or Federal agency that has control of these cultural items. The National Park Service is not responsible for the determinations within this notice.

The four cultural items are Hopi Kachina Dance Masks: Heheyah from First Mesa (catalog #1379), Tasavuh (catalog #1380), Sitononoh (catalog #1381), and Heheyah (catalog #1382).

In 1975, the Marjorie Barrick Museum acquired the masks through a donation from Dr. Gary Troyer, a private collector. No information regarding the collector’s acquisition is known.

Accession records from the Marjorie Barrick Museum indicate that these masks are of Hopi origin. Consultation evidence presented by the Katsinmongwi (Kachina Priest) of the Hopi tribe and Hopi religious leaders indicate that these objects are sacred and are used by the present-day Katsinmongwi for the practice of the Hopi religion. Society Priests assert that they are the rightful custodians of these items, as the masks require special care, which can only be provided by the Katsinmongwi.

Officials of the Marjorie Barrick Museum of Natural History have determined that, pursuant to 25 U.S.C. 3001, Sec. 2 (3)(C), these cultural items are specific ceremonial objects needed by traditional Native American religious leaders for the practice of traditional Native American religions by their present-day adherents. Officials of the Marjorie Barrick Museum of Natural History also have determined that, pursuant to 25 U.S.C. 3001, Sec. 2(2), there is a relationship of shared group identity that can reasonably be traced between these sacred objects and the Hopi Tribe of Arizona.

Representatives of any other Indian tribe that believes itself to be culturally affiliated with these objects should contact Kate Hahn, Marjorie Barrick Museum of Natural History, 4505 Maryland Parkway, Las Vegas, Nevada, 89154-4012, telephone (702) 895-3381, before January 22, 2003. Repatriation of these objects to the Hopi Tribe of Arizona may begin after that date if no additional claimants come forward.

The Marjorie Barrick Museum of Natural History is responsible for notifying the Hopi Tribe of Arizona that this notice has been published.

Dated:November 5, 2002
Robert Stearns,
Manager, National NAGPRA Program.

[FR Doc. 02-32176 Filed 12-20-02; 8:45 am]

BILLING CODE 4310-70-S